DEPARTMENT OF AGRICULTURE

Forest Service

Newspapers Used for Publication of Legal Notices by the Intermountain Region; Utah, Idaho, Nevada, and Wyoming

AGENCY: Forest Service, USDA.

ACTION: Notice.

SUMMARY: This notice lists the newspapers that will be used by the ranger districts, forests and regional office of the Intermountain Region to publish legal notices required under 36 CFR 215, 217, and 218. The intended effect of this action is to inform interested members of the public which newspapers the Forest Service will use to publish notices of proposed actions and notices of decision. this will provide the public with constructive notice of Forest Service proposals and decisions, provide information on the procedures to comment or appeal, and establish the date that the Forest Service will use to determine if comments or appeals were timely.

DATES: Publication of legal notices in the listed newspapers will begin on or after April 1, 2007. The list of newspapers will remain in effect until October 1, 2007, when another notice will be published in the Federal Register.

FOR FURTHER INFORMATION CONTACT: Priscilla McLain, Regional Appeals Coordinator Intermountain Region, 324 25th Street, Ogden, UT 84401, and phone (801) 625-5146.

SUPPLEMENTARY INFORMATION: The administrative procedures at 36 CFR parts 215, 217, and 218 require the Forest Service to publish notices in a newspaper of general circulation. The content of the notices is specified in 36 CFR parts 215, 217 and 218. In general, the notices will identify: the decision or project, by title or subject matter; the name and title of the official making the decision; how to obtain additional information; and where and how to file comments or appeals. The date the notice is published will be used to establish the official date for the beginning of the comment or appeal period. The newspapers to be used are as follows:

Regional Forester, Intercountain Region

Regional Forester decisions affecting National Forests in Idaho: Idaho Statesman.

Regional Forester decisions affecting National Forests in Nevada: Reno Gazette-Journal.

Regional Forester decisions affecting National Forests in Wyoming: Casper Star-Tribune.

Regional Forester decisions affecting National Forests in Utah: Salt Lake Tribune.

Regional Forester decisions affecting National Forests in the Intermountain Region: Salt Lake Tribune.

Ashley National Forest

Ashley Forest Supervisor decisions: Vernal Express.

District Ranger decisions for Duchesne, Roosevelt: Uintah Basin Standard.

Flaming Gorge District Ranger for decisions affecting Wyoming: Rocket Miner.

Flaming Gorge and Vernal District Ranger for decisions affecting Utah: Vernal Express.

Boise National Forest

Boise Forest Supervisor decisions: Idaho Statesman.

Cascade District Ranger decisions: Long Valley Advocate.

Emmett District Ranger decisions: Messenger-Index.

District Ranger decisions for Idaho City and Mountain Home Idaho Statesman.

Lowman District Ranger decisions: Idaho World.

Bridger-Teton National Forest

Bridger-Teton Forest Supervisor and District Ranger decisions: Casper Star-Tribune.

Caribou-Targhee National Forest

Caribou-Targhee Forest Supervisor decisions for the Caribou portion: Idaho State Journal.

Caribou-Targhee Forest Supervisor decisions for the Targhee portion: Post Register.

District Ranger decisions for Ashton, Dubois, Island Park, Palisades and Teton Basin: Post Register.

District Ranger decisions for Montpelier, Soda Springs and Westside: Idaho State Journal.

Dixie National Forest

Dixie Forest Supervisor decision: Daily Spectrum.

District Ranger decisions for Cedar City, Escalante, Pine Valley and Powell: Daily Spectrum.

Fremont (formerly Teasdale) District Ranger decisions: Richfield Reaper.

Fishlake National Forest

Fishlake Forest Supervisor and District Ranger decisions: Richfield Reaper.

Humboldt-Toiyabe National Forest

Humboldt-Toiyabe Forest Supervisor decisions that encompass all or portions of both the Humboldt and Toiyabe National Forests: Reno Gazette-Journal.

Humboldt-Toiyabe Forest Supervisor decisions for the Humboldt portion: Elko Daily Free Press.

Humboldt-Toiyabe Forest Supervisor decisions for the Toiyabe portion: Reno Gazette-Journal.

Austin District Ranger decisions: The Battle Mountain Bugle.

Bridgeport and Carson District Ranger decisions: Reno Gazette-Journal.

Ely District Ranger decisions: The Ely Times.

District Ranger decisions for Jarbidge, Mountain City and Ruby Mountains: Elko Daily Free Press.

Santa Rosa District Ranger decisions: Humboldt Sun.

Spring Mountains National Recreation Area District Ranger decisions: Las Vegas Review Journal.

Tonopah District Ranger decisions: Tonopah Times Bonanza-Goldfield News.

Manti-Lasal National Forest

Manti-LaSal Forest Supervisor decisions: Sun Advocate.

Ferron District Ranger decisions: Emery County Progress.

Moab District Ranger decisions: Times Independent.

Monticello District Ranger decisions: San Juan Record.

Price District Ranger decisions: Sun Advocate.

Sanpete District Ranger decisions: Sanpete Messenger.

Payette National Forest

Payette Forest Supervisor decisions: Idaho Statesman.

Council District Ranger decisions: Adams County Record.

District Ranger decisions for Krassel, McCall and New Meadows: Star News.

Weiser District Ranger decisions: Signal American.

Salmon-Challis National Forest

Salmon-Challis Forest Supervisor decisions for the Salmon portion: The Recorder-Herald.

Salmon-Challis Forest Supervisor decisions for the Challis portion: The Challis Messenger.

District Ranger decisions for Lost River, Middle Fork and Challis-Yankee Fork: The Challis Messenger.

District Ranger decisions for Leadore, North Fork and Salmon-Cobalt: The Recorder-Herald.

Sawtooth National Forest

Sawtooth Forest Supervisor decisions: The Times News.

District Ranger decisions for Fairfield and Minidoka: The Times News.

Ketchum District Ranger decisions: Idaho Mountain Express.

Sawtooth National Recreation Area: The Challis Messenger.

Uinta National Forest

Uinta Forest Supervisor and District Ranger decisions: The Daily Herald.

Wasatch-Cache National Forest

Wasatch-Cache Forest Supervisor decisions: Salt Lake Tribune.

District Ranger decisions for Evanston and Mountain View: Uinta County Herald.

District Ranger decisions for Kamas and Salt Lake: Salt Lake Tribune.

Logan District Ranger decisions: Logan Herald Journal.

Ogden District Ranger decisions: Standard Examiner.

Dated: March 15, 2007.
Jack G. Troyer,
Regional Forester.

[FR Doc. 07-1369 Filed 3-20-07; 8:45 am]

BILLING CODE 3410-11-M